DEPARTMENT OF LABOR

Employment and Training Administration

[TA-W-58,241]

Maitlen and Benson, Inc. Long Beach, CA; Notice of Termination of Investigation

Pursuant to section 221 of the Trade Act of 1974, an investigation was initiated on November 1, 2005 in response to a petition filed by a State agency representative on behalf of workers at Maitlen and Benson, Inc., Long Beach, California (TA-W-58,241).

The petitioner has requested that the petition be withdrawn. Consequently, further investigation in this case would serve no purpose, and the investigation has been terminated.

Signed in Washington, DC this 6th day of December, 2005.
Linda G. Poole,
Certifying Officer, Division of Trade Adjustment Assistance.

[FR Doc. E5-7607 Filed 12-20-05; 8:45 am]

BILLING CODE 4510-30-P